DEPARTMENT OF HOMELAND SECURITY

Transportation Security Administration

Intent To Request Extension From OMB of One Current Public Collection of Information: TSA Customer Comment Card

AGENCY: Transportation Security Administration, DHS.

ACTION: 60-Day notice.

SUMMARY: The Transportation Security Administration (TSA) invites public comment on one currently approved Information Collection Request (ICR), Office of Management and Budget (OMB) control number 1652-0030 abstracted below that we will submit to OMB for an extension in compliance with the Paperwork Reduction Act (PRA). The ICR describes the nature of the information collection and its expected burden. This collection allows customers to provide feedback to TSA about their experiences with TSA's processes and procedures, to request information or request assistance at the TSA checkpoint, and to report security threats and vulnerabilities.

DATES: Send your comments by May 16, 2025.

ADDRESSES: Comments may be emailed to TSAPRA@dhs.gov or delivered to the TSA PRA Officer Information Technology, TSA-11, Transportation Security Administration, 6595 Springfield Center Drive, Springfield, VA 20598-6011.

FOR FURTHER INFORMATION CONTACT: Christina A. Walsh at the above address, or by telephone (571) 227-2062.

SUPPLEMENTARY INFORMATION:

Comments Invited

In accordance with the Paperwork Reduction Act of 1995 (44 U.S.C. 3501 et seq.), an agency may not conduct or sponsor, and a person is not required to respond to, a collection of information unless it displays a valid OMB control number. The ICR documentation will be available at https://www.reginfo.gov upon its submission to OMB. Therefore, in preparation for OMB review and approval of the following information collection, TSA is soliciting comments to—

(1) Evaluate whether the proposed information requirement is necessary for the proper performance of the functions of the agency, including whether the information will have practical utility;

(2) Evaluate the accuracy of the agency's estimate of the burden;

(3) Enhance the quality, utility, and clarity of the information to be collected; and

(4) Minimize the burden of the collection of information on those who are to respond, including using appropriate automated, electronic, mechanical, or other technological collection techniques or other forms of information technology.

Information Collection Requirement

OMB Control Number 1652-0030; TSA Customer Comment Card. TSA provides airport passengers with paper and electronic methods of providing feedback to TSA regarding their experiences with TSA security procedures. The collection of information allows TSA to evaluate and address customer concerns about security procedures and policies.

Passengers may request paper TSA Customer Comment Cards to provide feedback, complaints, or compliments. For passengers who deposit their cards in the designated drop-boxes, TSA staff at airports collect the cards, categorize comments, enter the results into an online system for reporting, and respond to passengers as appropriate. If the passenger voluntarily provides contact information, TSA will use the contact information to respond to the passenger's comments.

In addition, passengers may make comments or requests, or file complaints, via online submission forms available at www.tsa.gov/contact/contact-forms. The electronic forms, which the TSA Contact Center handles, include the following forms:

• Complaint and Compliment. Like the paper comment card, the electronic Complaint and Compliment form is intended to allow passengers to provide feedback to TSA regarding their experiences with TSA security procedures. Passengers may also use this form to file Disability or Civil Rights and Civil Liberties complaints.

• Request for Assistance. This electronic form allows passengers to request assistance at the TSA checkpoint as part of the TSA Cares Program. The program was developed for passengers with disabilities, medical conditions, and other special circumstances who may need additional assistance during the security screening process.¹

¹ The program is available to all members of the public and is separate from the Military Severely Injured Joint Support Operations Center and the Travel Protocol Office programs which support and facilitate the movement of wounded warriors, severely injured military personnel, veterans and other travelers requiring an escort through the airport security screening process.

• Request for Information. This electronic form allows passengers to submit an inquiry about TSA policies and procedures, such as traveling with medical conditions, prohibited and permitted items, or security screening.

• Security Issues. This electronic form allows passengers to play a critical role in identifying and reporting suspicious activities and threats. The TSA Contact Center provides a receipt to any person who submits an electronic form or email to TSA as required by 49 CFR 1503.3(a).

TSA estimates we will receive 10,363 paper customer comment card submissions, 245,878 electronic comment submissions, and 4,805 Disability and Civil Rights complaints annually.

The following provides TSA's estimates for time needed to complete these forms:

• Approximately 3 minutes to complete the comment card submission.

• Approximately 5 minutes to complete the electronic comment submission.

• Approximately 8 minutes to complete the Disability and Civil Rights complaint.

TSA estimates the annual hour burden to be 21,649 hours. Over a 3-year period, TSA estimates the number of respondents to be 783,138 and hour burden to be 64,946 hours.

Dated: March 12, 2025.
Christina A. Walsh,
TSA Paperwork Reduction Act Officer, Information Technology.

[FR Doc. 2025-04297 Filed 3-14-25; 8:45 am]

BILLING CODE 9110-05-P